DEPARTMENT OF TRANSPORTATION

Federal Aviation Administration

Aviation Rulemaking Advisory Committee Rotorcraft Issues—New Task

AGENCY: Federal Aviation Administration (FAA), DOT.

ACTION: Notice of new task assignments for the Aviation Rulemaking Advisory Committee (ARAC)

SUMMARY: Notice is given of two new tasks assigned to and accepted by the Aviation Rulemaking Advisory Committee (ARAC). This notice informs the public of the activities of ARAC.

FOR FURTHER INFORMATION CONTACT: Mark Shilling, Rotorcraft Standards Staff (ASW—119), Federal Aviation Administration, 2601 Meacham Blvd, Fort Worth, Texas 76137-4298; phone (817) 222-5110; fax (817) 222-5961 email Mark.R.Schilling@faa.gov.

SUPPLEMENTARY INFORMATION:

Background

The FAA has established an Aviation Rulemaking Advisory Committee to provide advice and recommendations to the FAA Administrator, through the Associate Administrator for Regulation and Certification, on the full range of the FAA's rulemaking activities with respect to aviation-related issues. This includes obtaining advice and recommendations on the FAA's commitment to harmonize the Federal Aviation Regulations (FAR) and practices with its trading partners in Europe and Canada.

The Task

This notice is to inform the public that the FAA has asked ARAC to provide advice and recommendations on the following harmonization tasks:

Task No. 1: Damage Tolerance and Fatigue Evaluation of Metallic Rotorcraft Structure

• The project is to be a harmonized Joint Aviation Regulation (JAR)/FAR 27/29 ARAC program.

• Evaluate: the European Association of Aerospace Industries and the Aerospace Industry Association's White Paper, the recommendations contained in the Technical Oversight Group for Aging Aircraft letters to the FAA, and the ongoing activities and results of rotorcraft damage tolerance research and development.

• Identify the information needed to commence rulemaking and define an acceptable means of compliance.

• Recommend appropriate changes to FAR/JAR 29 regarding damage tolerance and fatigue evaluation of metallic structure, and recommend appropriate changes to FAR/JAR 27 that would allow damage tolerance as an option. Any recommended changes should be practical and appropriate to the unique characteristics of rotorcraft. Where feasible and appropriate, provide consistency with FAR/JAR 23/25.

• Evaluate and revise, as appropriate, the following advisory materials: AC 29-2; AC 27-1; and AC 20-95, Fatigue Evaluation of Rotorcraft Structure; and related guidance.

• The recommendation should be forwarded to the Federal Aviation Administration (FAA) and the Joint Aviation Authorities (JAA) in the format of a proposed rule.

Although this tasking for metallic structure does not depend on the completion of the composite structure project, the Composite Rotorcraft Structure and Metallic Rotorcraft Structure working groups should communicate to avoid possibly conflicting recommendation to amend the same regulatory sections.

The FAA requests that ARAC draft appropriate regulatory documents with supporting economic and other required analyses, and any other related guidance material or collateral documents to support its recommendations. If the recommendation results in one or more notice of proposed rulemaking (NPRM) published by the FAA, the FAA may ask ARAC to dispose of any substantive comments the FAA receives.

A progress report should be provided at each Joint Harmonization Working Group meeting. The recommendation should be forwarded to the FAA and the FAA by September 2002.

Task No. 2: Damage Tolerance and Fatigue Evaluation of Composite Rotorcraft Structure

• The project is to be a harmonized FAR/JAR 29/29 ARAC program.

• Revise current FAR/JAR 27 and 29 to add regulations for composite structure. Consider creating a new FAR/FAR 27/29.573 to address composite structure.

• Evaluate and revise, as appropriate, the regulations and the following advisory materials: AC 20-107A, Composite Aircraft Structure; AC 27-1; AC 29-2; and related guidance to achieve the goal of improved tolerance to flaws and defects in composite structure with methodology and procedures which are practical and appropriate to rotorcraft. Where feasible and appropriate, provide consistency with FAR/JAR 23/25.

• The recommendation should be forwarded to the FAA and JAA in the format of a proposed rule.

Although this tasking for composite structure does not depend on the completion of the metallic structure project, the Composite Rotorcraft Structure and Metallic Rotorcraft Structure working groups should communicate to avoid possibly conflicting recommendations to amend the same regulatory sections.

The FAA requests that ARAC draft appropriate regulatory documents with supporting economic and other required analyses, and any other related guidance material or collateral documents to support its recommendations. If the recommendation results in one or more NPRM's published by the FAA, the FAA may ask ARAC to dispose of any substantive comments the FAA receives.

A progress report should be provided at each Joint Harmonization Working Group meeting. The recommendation should be forwarded to the FAA and JAA by November 2002.

ARAC Acceptance of Task

ARAC has accepted the tasks and has chosen to establish two new working groups, the Composite Rotorcraft Structure working group and the Metallic Rotorcraft Structure working group. The working groups will serve as staff to ARAC to assist ARAC in the completion of the assigned tasks. Working group recommendations must be reviewed and approved by ARAC. If ARAC accepted the working groups' recommendations, ARAC will forward them to the FAA as recommendations.

Working Group Activity

The Composite Rotorcraft Structure working group and the Metallic Rotorcraft Structure working group is expected to comply with the procedures adopted by ARAC. As part of the procedures, the working groups are expected to:

1. Recommend a work plan for completion of the task, including the rationale supporting such a plan, for consideration at the Rotorcraft Issues ARAC meeting held following publication of this notice.

2. Given a detailed conceptual presentation of the proposed recommendations prior to proceeding with the work stated in item 3 below.

3. Draft appropriate regulatory documents with supporting economic and other required analyses, and/or any other related guidance material or collateral documents the working group determines to be appropriate; or, if new or revised requirements or compliance methods are not recommended, a draft report stating the rationale for not making such recommendations.

4. Provide a status report at each meeting of ARAC held to consider rotorcraft issues.

Participation in the Working Group

The Composite Rotorcraft Structure working group and the Metallic Rotorcraft Structure working group will be composed of technical experts having an interest in the assigned tasks. A working group member need not be a representative of a member of the full committee.

An individual who has expertise in the subject matter and wishes to become a member of the working group should write to the person listed under the caption FOR FURTHER INFORMATION CONTACT expressing that desire, describing his or her interest in the task, and stating the expertise he or she would bring to the working group. All requests to participate must be received no later than April 10, 2000. The requests will be reviewed by the assistant chair and the assistant executive director, and the individuals will be advised whether or not the request can be accommodated.

Individuals chosen for membership on the working group will be expected to represent their aviation community segment and participate actively in the working group (e.g., attend all meetings, provide written comments when requested to do so, etc.). They also will be expected to devote the resources necessary to ensure the working group meets any assigned deadline(s). Members are expected to keep their management chain advised of working group activities and decisions to ensure that the agreed technical solutions do not conflict with their sponsoring organization's position when the subject is presented to ARAC for a vote.

Once the working group has begun deliberations, members will not be added or substituted without the approval of the assistant chair, the assistant executive director, and the working group chair.

The Secretary of Transportation has determined that the formation and use of ARAC are necessary and in the public interest in connection with the performance of duties imposed on the FAA by law.

Meetings of ARAC will be open to the public. Meetings of the working groups will not be open to the public, except to the extent that individuals with an interest and expertise are selected to participate. No public announcement of working group meetings will be made.

Issued in Washington, DC, on March 28, 2000.
Anthony F. Fazio,
Executive Director, Aviation Rulemaking Advisory Committee.

[FR Doc. 00-8382 Filed 4-4-00; 8:45 am]

BILLING CODE 4910-13-M